DEPARTMENT OF STATE

[Public Notice 9909]

Notice of Public Meeting

The Department of State will conduct an open meeting at 9:00 a.m. on Wednesday, March 22, 2017, at the offices of ABS Consulting, 1525 Wilson Boulevard, Suite 625, Arlington, Virginia 22209. The primary purpose of the meeting is to prepare for the forty-first session of the International Maritime Organization's (IMO) Facilitation Committee to be held at the IMO Headquarters, United Kingdom, April 4-7, 2017.

The agenda items to be considered include:

—Decisions of other IMO bodies

—Consideration and adoption of proposed amendments to the Convention

—Review and update the Explanatory Manual to the FAL Convention

—Application of single-window concept

—Measures to protect the safety of persons rescued at sea

—Unsafe mixed migration by sea

—Consideration and analysis of reports and information on persons rescued at sea and stowaways

—Guidelines on the facilitation aspects of protecting the maritime transport network from cyberthreats

—Technical cooperation activities related to facilitation of maritime traffic

—Relations with other organizations

—Application of the Committee's procedures on organization and method of work

—Work programme

—Any other business

Members of the public may attend this meeting up to the seating capacity of the room. Upon request to the meeting coordinator, members of the public may also participate via teleconference, up to the capacity of the teleconference phone line. To access the teleconference line, participants should call (202) 475-4000 and use Participant Code: 887 809 72. To facilitate the building security process, and to request reasonable accommodation, those who plan to attend should contact the meeting coordinator, Mr. James Bull, by email at James.T.Bull@uscg.mil, by phone at (202) 372-1144, or in writing at 2703 Martin Luther King Jr. Ave SE., Stop 7509, Washington, DC 20593-7509 not later than March 15, 2017. Requests made after March 15, 2017 might not be able to be accommodated. The ABS Consulting office is accessible by taxi, public transportation, and privately owned conveyance if parking is arranged in advance with the meeting coordinator. In the case of inclement weather where the Federal Government is closed or delayed, a public meeting may be conducted virtually. The meeting coordinator will confirm whether the virtual public meeting will be utilized at: www.uscg.mil/imo. Members of the public can find out whether the Federal Government is delayed or closed by visiting www.opm.gov/status/. Additional information regarding this and other IMO public meetings may be found at: www.uscg.mil/imo.

Jonathan W. Burby,
Coast Guard Liaison Officer, Office of Ocean and Polar Affairs, Department of State.

[FR Doc. 2017-04422 Filed 3-6-17; 8:45 am]

BILLING CODE 4710-09-P